DEPARTMENT OF LABOR

Employment and Training Administration

[TA-W-85,617]

Day & Zimmermann, Inc.; Kansas Division; Parsons, Kansas; Notice of Affirmative Determination Regarding Application for Reconsideration

By application dated December 2, 2014, the Kansas Department of Commerce requested administrative reconsideration of the negative determination regarding workers' eligibility to apply for worker adjustment assistance applicable to workers and former workers of Day & Zimmermann, Inc., Kansas Division, Parsons, Kansas. The determination was issued on November 24, 2014 and the Notice of Determination has not yet been published in the Federal Register.

Pursuant to 29 CFR 90.18(c) reconsideration may be granted under the following circumstances:

(1) If it appears on the basis of facts not previously considered that the determination complained of was erroneous;

(2) If it appears that the determination complained of was based on a mistake in the determination of facts not previously considered; or

(3) If in the opinion of the Certifying Officer, a misinterpretation of facts or of the law justified reconsideration of the decision.

The initial investigation resulted in a negative determination based on the findings that imports of high explosive mortar rounds and demolition charges have not increased; the subject firm did not shift production to a foreign country; and the subject firm is not a Supplier or Downstream Producer to a firm that employed a group of workers who received a certification of eligibility under Section 222(a) of the Act, 19 U.S.C. 2272(a).

The request for reconsideration asserts that the subject firm was impacted by foreign competition and supplied new information.

The Department of Labor has carefully reviewed the request for reconsideration and the existing record, and has determined that the Department will conduct further investigation to determine if the workers meet the eligibility requirements of the Trade Act of 1974.

Conclusion

After careful review of the application, I conclude that the claim is of sufficient weight to justify reconsideration of the U.S. Department of Labor's prior decision. The application is, therefore, granted.

Signed at Washington, DC, this 17th day of December, 2014.
Michael W. Jaffe,
Certifying Officer, Office of Trade Adjustment Assistance.

[FR Doc. 2014-30606 Filed 12-30-14; 8:45 am]

BILLING CODE 4510-FN-P